DEPARTMENT OF COMMERCE

National Oceanic and Atmospheric Administration

RIN 0648-AS67

Fisheries of the Caribbean, Gulf of Mexico, and South Atlantic; Reef Fish Fishery of the Gulf of Mexico; Gulf Red Snapper Individual Fishing Quota Program

AGENCY: National Marine Fisheries Service (NMFS), National Oceanic and Atmospheric Administration (NOAA), Commerce.

ACTION: Notice of determination of catastrophic conditions.

SUMMARY: In accordance with the regulations implementing the individual fishing quota (IFQ) program for the commercial red snapper fishery in the Gulf of Mexico, the Administrator, Southeast Region, NMFS (RA) has determined that catastrophic conditions exist in those parts of Texas and Louisiana from the mouth of the Mississippi River west to Freeport, Texas as a result of recent hurricanes. Consistent with those regulations, the RA has authorized IFQ participants within this affected area to use paper-based forms, if necessary, for basic required IFQ administrative functions, e.g., landing transactions, until October 24, 2008. This determination of catastrophic conditions and allowance of alternative methods for completing required IFQ administrative functions is intended to facilitate continuation of IFQ operations during the period of catastrophic conditions.

DATES: The RA is authorizing IFQ participants within this affected area to use paper-based forms until October 24, 2008.

FOR FURTHER INFORMATION CONTACT: Britni Tokotch, telephone 727-824-5305, fax 727-824-5308, e-mail Britni.Tokotch@noaa.gov.

SUPPLEMENTARY INFORMATION: Regulations implementing the IFQ program for the commercial red snapper fishery in the Gulf of Mexico (50 CFR 622.16) require that IFQ participants have access to a computer and Internet access and that they conduct administrative functions associated with the IFQ program, e.g., landing transactions, online. However, these regulations also specify that during catastrophic conditions, as determined by the RA, the RA can authorize IFQ participants in the affected area who are unable to submit information electronically to use paper-based forms to complete IFQ administrative functions for the duration of the catastrophic conditions. The RA must determine that catastrophic conditions exist, specify the duration of the catastrophic conditions, and specify which participants or geographic areas are deemed affected by the catastrophic conditions.

Hurricane Gustav made landfall near Cocodrie, Louisiana as a strong Category 2 hurricane on September 1, 2008. Twelve days later Hurricane Ike made landfall near Galveston, Texas as a Category 2 hurricane. Strong winds and flooding from these two hurricanes impacted coastal communities throughout Texas and Louisiana, resulting in power outages and loss of homes, businesses, and other infrastructure. As a result the RA has determined that catastrophic conditions exist in those areas of the states of Louisiana and Texas from the mouth of the Mississippi River west to Freeport, Texas. The RA is authorizing IFQ participants within this affected area to use paper-based forms until October 24, 2008. NMFS will provide additional notification to affected participants via NOAA weather radio, fishery bulletins, and other appropriate means.

NMFS previously provided each IFQ dealer the necessary paper forms (sequentially coded) and instructions in the event catastrophic conditions exist. Paper forms are also available from the RA upon request. The electronic system for submitting information to NMFS will continue to be available to all participants, and participants in the affected area are encouraged to continue using this system, if accessible.

The administrative program functions available to participants in the area affected by catastrophic conditions will be limited under the paper-based system. There will be no mechanism for transfers of IFQ shares or allocation under the paper-based system in effect during catastrophic conditions. Assistance in complying with the requirements of the paper-based system will be available via IFQ Customer Service 1-866-425-7627 Monday through Friday between 8 a.m. and 4:30 p.m. eastern time.

Authority: 16 U.S.C. 1801 et seq.

Dated: September 19, 2008.
Emily H. Menashes,
Acting Director, Office of Sustainable Fisheries, National Marine Fisheries Service.

[FR Doc. E8-22406 Filed 9-23-08; 8:45 am]

BILLING CODE 3510-22-S